DEPARTMENT OF LABOR

Office of the Secretary

Agency Information Collection Activities; Submission for OMB Review; Comment Request; Senior Community Service Employment Program Performance Measurement System

ACTION: Notice.

SUMMARY: The Department of Labor (DOL) hereby announces submission of the Employment and Training Administration (ETA) sponsored information collection request (ICR), “Senior Community Service Employment Program (SCSEP) Performance Measurement System,” to the Office of Management and Budget (OMB) for review and approval for continued use in accordance with the Paperwork Reduction Act of 1995 (PRA), Public Law 104-13, 44 U.S.C. chapter 35.

DATES: Submit comments on or before December 1, 2010.

ADDRESSES: A copy of this ICR, with applicable supporting documentation; including a description of the likely respondents, proposed frequency of response, and estimated total burden may be obtained from the RegInfo.gov Web site, http://www.reginfo.gov/public/do/PRAMain or by contacting Michel Smyth by telephone at 202-693-4129 (this is not a toll-free number) or sending an email to dol_pra_public@dol.gov.

Submit comments about this request to the Office of Information and Regulatory Affairs, Attn: OMB Desk Officer for the Department of Labor, Employment and Training Administration (ETA), Office of Management and Budget, Room 10235, Washington, DC 20503, Telephone: 202-395-6881/Fax: 202-395-5806 (these are not toll-free numbers), e-mail: OIRA_submission@omb.eop.gov.

FOR FURTHER INFORMATION CONTACT: Michel Smyth by telephone at 202-693-4129 (this is not a toll-free number) or by e-mail at dol_pra_public@dol.gov.

SUPPLEMENTARY INFORMATION: The DOL is seeking OMB reauthorization of information collections related to Senior Community Service Employment Program (SCSEP) Performance Measurement System. Originally authorized by the Older Americans Act of 1965, the SCSEP is funded for approximately $759 million for Program Year (PY) 2010 and will provide over 78,000 positions in which nearly 120,000 low-income persons aged 55 or older will be placed in community service employment. At current placement rates, this should allow about 20,000 people to be exited from the program with the ultimate goal of unsubsidized placement in PY 2010.

To ensure that the SCSEP is properly administered, and to implement the performance measures and sanctions authorized by the 2006 Amendments to the OAA (OAA-2006) and the Jobs for Veterans Act of 2002, it is necessary to modify existing data collection instruments. In addition, a collection of information is required under OMB Memorandum M-02-06, which has been adopted by the DOL. This requirement necessitates a revision of data collection instruments and revisions to the overall data collection burden. The legal authority for the collection of additional information may be found at sections 503, 508, 513, and 515 of the OAA-2006.

The (SCSEP) Performance Measurement System contains information collections subject to the PRA. A Federal agency generally cannot conduct or sponsor a collection of information, and the public is generally not required to respond to an information collection, unless it is currently approved by the OMB under the PRA and displays a currently valid OMB Control Number. In addition, notwithstanding any other provision of law, no person shall generally be subject to penalty for failing to comply with a collection of information if the collection of information does not display a currently valid OMB Control Number. See 5 CFR 1320.5(a) and 1320.6.

The DOL obtains approval for this information collection under OMB Control Number 1205-0040, and the current approval is scheduled to expire on October 31, 2010. For additional information, see the related notice published in the Federal Register on May 13, 2010 (75 FR 27001).

The DOL, as part of its continuing effort to reduce paperwork and respondent burden, submits information collections for OMB consideration after conducting a preclearance consultation program to provide the public with an opportunity to comment on proposed and continuing information collection requirements in accordance with the PRA. See 44 U.S.C. 3506(c)(2)(A). This program ensures that information is in the desired format, reporting burden (time and cost) is minimal, collection instruments are clearly understood, and the estimate of the information collection burden is accurate.

Interested parties are encouraged to send comments to the OMB, Office of Information and Regulatory Affairs at the address shown in the ADDRESSES section within 30 days of publication of this notice in the Federal Register. In order to ensure appropriate consideration, comments should reference OMB Control Number 1205-0040. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Type of Review: Revision of a currently approved collection.

Title of Collection: Senior Community Service Employment Program (SCSEP) Performance Measurement System.

Form Numbers: ETA-9120, ETA-9121, ETA-9122, ETA-9123, ETA-8705.

OMB Control Number: 1205-0040.

Affected Public: Private sector, Businesses, or other for-profits, Not-for-profit institutions; State, Local, and Tribal Governments; Individuals or Households.

Total Estimated Number of Responses: 374,279.

Total Estimated Annual Burden Hours: 52,347.

Total Estimated Annual Costs Burden: $0.

Dated: October 26, 2010.
Michel Smyth,
Departmental Clearance Officer.

[FR Doc. 2010-27481 Filed 10-29-10; 8:45 am]

BILLING CODE 4510-30-P